FEDERAL COMMUNICATIONS COMMISSION

Notice of Public Information Collection(s) Being Submitted for Review to the Office of Management and Budget

August 10, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 15, 2006. If you anticipate that you will be submitting PRA comments, but find it difficult to do so within the period of time allowed by this notice, you should advise the contact listed below as soon as possible.

ADDRESSES: Direct all Paperwork Reduction Act (PRA) comments to Judith B. Herman, Federal Communications Commission, Room 1-B441, 445 12th Street, SW., DC 20554 or via the Internet to PRA@fcc.gov. If you would like to obtain or view a copy of this information collection, you may do so by visiting the FCC PRA Web page at: http://www.fcc.gov/omd/pra.

FOR FURTHER INFORMATION CONTACT: For additional information or copies of the information collection(s), send an e-mail to PRA@fcc.gov or contact Judith B. Herman at 202-418-0214.

SUPPLEMENTARY INFORMATION: OMB Control No.: 3060-XXXX.

Title: Licensing, Operation, and Transition of the 2500-26990 MHz Band.

Form No.: N/A.

Type of Review: New collection.

Respondents: Business or other for-profit, not-for-profit institutions, and state, local or tribal government.

Number of Respondents: 2,500 respondents; 5,000 responses.

Estimated Time Per Response: .25-5 hours.

Frequency of Response: On occasion and one-time reporting requirements, recordkeeping requirement, and third party disclosure requirement.

Total Annual Burden: 8,335 hours.

Total Annual Cost: $273,334.

Privacy Act Impact Assessment: N/A.

Needs and Uses: This collection will be submitted as a new collection after this 30 day comment period to Office of Management and Budget (OMB) in order to obtain the full three year clearance.

New Broadband Radio Service (BRS) and Educational Broadband Service (EBS) band plan transitions take place in Basic Trading Areas (BTAs), which will provide both incumbent licensees and potential new entrants in the 2495-2690 MHz band with greatly enhanced flexibility to encourage the efficient and effective use of spectrum domestically and internationally and the growth and rapid development of innovative and efficient communications technologies and services.

The information collection requirements are contained in the following rule sections: 1) the pre-transition data request (47 CFR 27.1231(e)); 2) the transition notice (47 CFR 27.1231(e)); 3) the Initiation Plan (47 CFR 27.1231(f)); and 4) the post-transition notification (47 CFR 27.1235). The Pre-transition data request will be collected by a third-party proponent (proponent) to assist in the transitioning the 2500-2690 MHz band. The proponent may use a variety of methods, including a computerized database. The proponent will send the transition notice to all BRS and EBS licensees in the BTA that the proponent is transitioning. The FCC will collect the Initiation Plan and the Post-transition Notification from the proponent to enable the FCC to assess when transitions have begun and when they have ended. The FCC will use our electronic comment and filing system (ECFS) database to collect this information from the proponents.

Federal Communications Commission.
William F. Caton,
Deputy Secretary.

[FR Doc. E6-13478 Filed 8-15-06; 8:45 am]

BILLING CODE 6712-01-P